DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 10, 2020.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on December 5, 2019.
Donald P. Burger,
Chief, General Approvals and Permits Branch.

Application No. | Applicant | Regulation(s) affected | Nature of the special permits thereof
SPECIAL PERMITS DATA
20970-N | Union Tank Car Company | 172.203(a), 172.302(c), 173.247(a) | To authorize the transportation in commerce of DOT 117 tank cars containing elevated temperature materials. (mode 2).
20971-N | Pro-dex, Inc | 172.102(c)(2) | To authorize the transportation in commerce of lithium ion batteries at a state of charge greater than 30 percent by air. (mode 4).
20972-N | Distributor Operations, Inc | 173.159(e)(1) | To authorize the transportation in commerce of electric storage batteries under the exception in 173.159(e) when other hazardous materials are present on the vehicle. (mode 1).
20973-N | Olin Winchester Llc | 172.203(a), 173.63(b)(2)(v) | To authorize the transportation in commerce of 22 caliber (or less) rim-fire cartridges packaged loose in strong outer packagings. (modes 1, 2, 3, 4, 5).
20974-N | Psc Custom Lp | 172.101(i), 173.302 | To authorize the transportation in commerce of methane gas in MC 331 specification cargo tanks. (mode 1).
20975-N | Csl Behring L.l.c | 173.197 | To authorize the transportation in commerce of regulated medical waste in UN 11G packaging. (mode 1).
20978-N | Airopack B.v |  | To authorize the transportation in commerce of receptacles manufactured under SP-20673 as not subject to the HMR when charged with no more than 55 ml of compressed air for the purpose of expelling a liquid, paste, or powder. (modes 1, 2, 3, 4, 5).
20979-N | Northrop Grumman Innovation Systems, Inc |  | To authorize the transportation in commerce of hazardous materials over 422 feet of public roadways without being subject to the HMR. (mode 1).
20981-N | Republic Helicopters, Inc | 172.200, 172.300, 172.400, 173.27, 175.30, 175.33 | To authorize the transportation in commerce of refrigerating units via rotocraft external loads. (mode 4).
20982-N | Ford Motor Company | 172.101(j) | To authorize the transportation in commerce of lithium ion batteries exceeding 35 kg aboard cargo-only aircraft. (mode 4).
20983-N | Roth Global Plastics Inc | 173.302a(a)(1) | To authorize the transportation in commerce of Division 2.2 materials in non-DOT specification cylinders (accumulators). (modes 1, 2, 3, 4).
20984-N | Midway Arms, Inc | 172.315(a)(2) | To authorize the transportation in commerce of packages containing limited quantities of hazardous materials that are marked with a reduced sized limited quantity marking. (modes 1, 2, 3).

[FR Doc. 2019-26648 Filed 12-10-19; 8:45 am]

BILLING CODE 4909-60-P